DEPARTMENT OF THE INTERIOR

National Park Service

Environmental Statements; Notice of Availability; Wilson's Creek National Battlefield, MO

AGENCY: National Park Service.

ACTION: Notice of availability of the draft general management plan/draft environmental impact statement for Wilson's Creek National Battlefield.

SUMMARY: Pursuant to section 102(2) of the National Environmental Policy Act of 1969, the National Park Service (NPS) announces the availability of the draft general management plan/draft environmental impact statement (DGMP/DEIS) for Wilson's Creek National Battlefield (Battlefield).

DATES: There will be a 60-day public review period for comments on this DGMP/DEIS. Comments on the DGMP/DEIS must be received 60-days after the Environmental Protection Agency publishes its notice of availability in the Federal Register or following an announcement in local papers, which ever is published later. Two public open houses for information about, or to make comment on the DGMP/DEIS will be held in or around Springfield, Missouri. Information about time and place will be available by contacting the park at the address below. Open house schedules will be published in local papers.

ADDRESSES: Copies of the DCMP/DEIS are available upon request by writing to Wilson's Creek National Battlefield, 6424 W. Farm Road 182, Republic, Missouri, 65738-9514. The document can be picked-up in person at the Battlefield's headquarters located at the address above.

FOR FURTHER INFORMATION CONTACT: Superintendent, Wilson's Creek National Battlefield 6424 W. Farm Road 182, Republic, Missouri, 65738-9514, or at telephone number 417-732-2662.

SUPPLEMENTARY INFORMATION: The purpose of the general management plan (GMP) is to set forth the basic management philosophy for the Battlefield and to provide the strategies for addressing issues and achieving identified management objectives. The DGMP/DEIS describes and analyzes the environmental impacts of a proposed action and one action alternatives for the future management direction of the Battlefield. A no action alternative is also evaluated. Alternative B, Wilson's Creek National Battlefield Commemoration, the preferred alternative, would focus on efforts to commemorate the Battle of Wilson's Creek and emphasize a reflective and contemplative visitor experience. Recreational use would be allowed but would be managed so as not to conflict with the core mission of the park or the primary visitor experience. Alternative C, Wilson's Creek Civil War Research Center, would focus on Wilson's Creek distinctive combination of site integrity and artifact and archival collections in developing the park as an outstanding research center. Alternative A, the no action alternative, would continue management of the Battlefield as it is. Existing programs and program emphasis would not change.

Persons wishing to comment may do so by one of several methods. They may attend the open houses noted above. They may mail comments to Superintendent, Wilson's Creek National Battlefield, 6424 W. Farm Road 182, Republic, Missouri, 65738-9514. They also may hand-deliver comments to the Battlefield at the above address.

If individuals submitting comments request that their name and/or address be withheld from public disclosure, it will be honored to the extent allowable by law. Such requests must be stated prominently in the beginning of the comments. As always, the NPS will make available to public inspection all submissions from organizations or businesses and from persons identifying themselves as representatives or officials of organizations and businesses. Anonymous comments will not be considered.

The responsible official is Mr. William Schenk, Midwest Regional Director, National Park Service.

Dated: April 8, 2002.
David N. Given,
Acting Regional Director, Midwest Region.

[FR Doc. 02-14216 Filed 6-5-02; 8:45 am]

BILLING CODE 4310-70-P